DEPARTMENT OF HOMELAND SECURITY

Coast Guard

33 CFR Part 165

[CGD 13-06-002]

RIN 1625-AA00

Safety Zone: North Portland Harbor Dredging Operations; Portland, OR

AGENCY: Coast Guard, DHS.

ACTION: Temporary final rule; correction of effective date.

SUMMARY: This document contains a correction to effective date of the temporary final rule establishing a temporary safety zone on the Columbia River, in the vicinity of Hayden Island at North Portland Harbor (CGD-13-06-002) published on January 25, 2006, in the Federal Register (71 FR 4043).

DATES: This correction is effective February 1, 2006.

ADDRESSES: Documents indicated in this preamble as being available in the docket are part of docket [CGD13-06-002] and are available for inspection or copying at U. S. Coast Guard Sector Portland, 6767 North Basin Ave. Portland, Oregon 97217 between 7 a.m. and 4 p.m., Monday through Friday, except Federal holidays.

FOR FURTHER INFORMATION CONTACT: Petty Officer Charity Keuter, c/o Captain of the Port Portland, 6767 N. Basin Ave. Portland, Oregon 97217 at 503-240-9301.

SUPPLEMENTARY INFORMATION: On January 25, 2006, the Coast Guard published temporary final rule establishing a temporary safety zone on the Columbia River, in the vicinity of Hayden Island at North Portland Harbor (CGD-13-06-002) in the Federal Register (71 FR 4043). In that document the effective date inadvertently stated the year as 2005.

In rule FR Doc. 06-677 published on January 25, 2006, (71 FR 4043) make the following correction. On page 4043, in the first column, change the effective date to read as follows:

DATES: This rule is effective from January 17, 2006 8 a.m. (PST) through March 15, 2006 at 5 p.m. (PST).

Dated: January 25, 2006.
Stefan G. Venckus,
Chief, Office of Regulations and Administrative Law, United States Coast Guard.

[FR Doc. 06-906 Filed 1-31-06; 8:45 am]

BILLING CODE 4910-15-P